DEPARTMENT OF HOMELAND SECURITY

6 CFR Part 27

8 CFR Parts 270, 274a, and 280

U.S. Customs and Border Protection

19 CFR Part 4

Coast Guard

33 CFR Part 27

Transportation Security Administration

49 CFR Part 1503

RIN 1601-AA80

Civil Monetary Penalty Adjustments for Inflation

AGENCY: Department of Homeland Security.

ACTION: Final rule.

SUMMARY: In this final rule, the Department of Homeland Security (DHS) is making the 2019 annual inflation adjustment to its civil monetary penalties. The Federal Civil Penalties Inflation Adjustment Act Improvements Act of 2015 (2015 Act) was signed into law on November 2, 2015. Pursuant to the 2015 Act, all agencies must adjust civil monetary penalties annually and publish the adjustment in the Federal Register. Accordingly, this final rule adjusts DHS's civil monetary penalties for 2019 pursuant to the 2015 Act and OMB guidance. The new penalties will be effective for penalties assessed after April 5, 2019 whose associated violations occurred after November 2, 2015.

DATES: This rule is effective on April 5, 2019.

FOR FURTHER INFORMATION CONTACT: Megan Westmoreland, Attorney-Advisor, Office of the General Counsel, U.S. Department of Homeland Security. Phone: 202-447-4384.

SUPPLEMENTARY INFORMATION:

Table of Contents

I. Statutory and Regulatory Background

II. Overview of Final Rule

III. Adjustments by Component

A. Cybersecurity and Infrastructure Security Agency

B. U.S. Customs and Border Protection

C. U.S. Immigration and Customs Enforcement

D. U.S. Coast Guard

E. Transportation Security Administration

IV. Administrative Procedure Act

V. Regulatory Analyses

A. Executive Orders 12866 and 13563

B. Regulatory Flexibility Act

C. Unfunded Mandates Reform Act

D. Paperwork Reduction Act

VI. Signing Authority

I. Statutory and Regulatory Background

On November 2, 2015, the President signed into law the Federal Civil Penalties Inflation Adjustment Act Improvements Act of 2015 (Pub. L. 114-74 section 701 (Nov. 2, 2015)) (2015 Act).¹ The 2015 Act amended the Federal Civil Penalties Inflation Adjustment Act of 1990 (28 U.S.C. 2461 note) to improve the effectiveness of civil monetary penalties and to maintain their deterrent effect. The 2015 Act required agencies to: (1) Adjust the level of civil monetary penalties with an initial “catch-up” adjustment through issuance of an Interim Final Rule (IFR) and (2) make subsequent annual adjustments for inflation. Through the “catch-up” adjustment, agencies were required to adjust the maximum amounts of civil monetary penalties to more accurately reflect inflation rates.

¹ The 2015 Act was enacted as part of the Bipartisan Budget Act of 2015, Public Law 114-74 (Nov. 2, 2015).

For the subsequent annual adjustments, the 2015 Act requires agencies to increase the penalty amounts by a cost-of-living adjustment. The 2015 Act directs OMB to provide guidance to agencies each year to assist agencies in making the annual adjustments. The 2015 Act requires agencies to make the annual adjustments no later than January 15 of each year and to publish the adjustments in the Federal Register.

Pursuant to the 2015 Act, DHS undertook a review of the civil penalties that DHS and its components administer.² On July 1, 2016, DHS published an IFR adjusting the maximum civil monetary penalties with an initial “catch-up” adjustment, as required by the 2015 Act.³ DHS calculated the adjusted penalties based upon nondiscretionary provisions in the 2015 Act and upon guidance that OMB issued to agencies on February 24, 2016.⁴ The adjusted penalties were effective for civil penalties assessed after August 1, 2016 (the effective date of the IFR) whose associated violations occurred after November 2, 2015 (the date of enactment of the 2015 Act). On January 27, 2017, DHS published a final rule finalizing the IFR and making the annual adjustment for 2017.⁵ DHS made the 2018 annual inflation adjustment on April 2, 2018.⁶

² The 2015 Act applies to all agency civil penalties except for any penalty (including any addition to tax and additional amount) under the Internal Revenue Code of 1986 (26 U.S.C. 1 et seq.) and the Tariff Act of 1930 (19 U.S.C. 1202 et seq.). See sec. 4(a)(1) of the 2015 Act. In the case of DHS, several civil penalties that are assessed by U.S. Customs and Border Protection (CBP) and the U.S. Coast Guard fall under the Tariff Act of 1930, and thus DHS did not adjust those civil penalties in this rulemaking.

³ See 81 FR 42987.

⁴ OMB, Implementation of the Federal Civil Penalties Inflation Adjustment Act Improvements Act of 2015, Table A, 24 February 2016. https://www.whitehouse.gov/sites/whitehouse.gov/files/omb/memoranda/2016/m-16-06.pdf (last accessed Dec. 5, 2017).

⁵ See 82 FR 8572.

⁶ See 83 FR 13826.

II. Overview of the Final Rule

This final rule makes the 2019 annual inflation adjustments to civil monetary penalties pursuant to the 2015 Act and pursuant to guidance OMB issued to agencies on December 14, 2018.⁷ The penalty amounts in this final rule will be effective for penalties assessed after April 5, 2019 where the associated violation occurred after November 2, 2015. Consistent with OMB guidance, the 2015 Act does not change previously assessed penalties that the agency is actively collecting or has collected.

⁷ OMB Memorandum M-19-04, Implementation of Penalty Inflation Adjustments for 2019, Pursuant to the Federal Civil Penalties Inflation Adjustment Act Improvements Act of 2015, Dec. 14, 2018. Available at https://www.whitehouse.gov/wp-content/uploads/2017/11/m_19_04.pdf.

The adjusted penalty amounts will apply to penalties assessed after the effective date of this final rule. We discuss civil penalties by DHS component in Section III below. For each component identified in Section III, below, we briefly describe the relevant civil penalty (or penalties), and we provide a table showing the increase in the penalties for 2019. In the table for each component, we show (1) the penalty name, (2) the penalty statutory and/or regulatory citation, (3) the penalty amount as adjusted in the 2017 final rule, (4) the cost-of-living adjustment multiplier for 2019 that OMB provided in its December 14, 2018 guidance, and (5) the new 2019 adjusted penalty. The 2015 Act instructs agencies to round penalties to the nearest $1. For a more complete discussion of the method used for calculating the initial “catch-up” inflation adjustments and a component-by-component breakdown to the nature of the civil penalties and relevant legal authorities, please see the IFR preamble at 81 FR 42987-43000.

III. Adjustments by Component

In the following sections, we briefly describe the civil penalties that DHS and its components assess. We include tables at the end of each section, which list the individual adjustments for each penalty.

A. Cybersecurity and Infrastructure Security Agency

The Cybersecurity and Infrastructure Security Agency (CISA) (formerly the National Protection and Programs Directorate (NPPD)) ⁸ administers only one civil penalty that the 2015 Act affects. That penalty assesses fines for violations of the Chemical Facility Anti-Terrorism Standards (CFATS). CFATS is a program that regulates the security of chemical facilities that, in the discretion of the Secretary, present high levels of security risk. DHS established the CFATS program in 2007 pursuant to section 550 of the Department of Homeland Security Appropriations Act of 2007 (Pub. L. 109-295).⁹ The CFATS regulation is located in part 27 of title 6 of the Code of Federal Regulations (CFR). Below is a table showing the 2019 adjustment for the CFATS penalty that CISA administers.

⁸ On November 16, 2018, the Cybersecurity and Infrastructure Security Agency Act of 2018 (Pub. L. 115-278), was enacted to redesignate NPPD as CISA. Henceforth, CISA is the DHS operational component responsible for overseeing critical infrastructure protection, cybersecurity, and other related programs.

⁹ Section 550 has since been superseded by the Protecting and Securing Chemical Facilities from Terrorist Attacks Act of 2014 (Pub. L. 113-254). The new legislation codified the statutory authority for the CFATS program within Title XXI of the Homeland Security Act of 2002, as amended. See 6 U.S.C. 621 et seq. Public Law 113-254 authorized the CFATS program from January 18, 2015 to January 17, 2019. The Chemical Facility Anti-Terrorism Standards Program Extension Act (Pub. L. 116-2) extends the CFATS program authorization to April 17, 2020. DHS is adding these citations to the authority citation for part 27 of title 6 of the Code of Federal Regulations.

Table 1—CFATS Civil Penalty Adjustment
Penalty name | Citation | Penalty amount as adjusted in the 2018 FR | Multiplier * | New penalty as adjusted by this final rule
Penalty for non-compliance with CFATS regulations | 6 U.S.C. 624(b)(1); 6 CFR 27.300(b)(3) | $34,013 per day | 1.02522 | $34,871
* OMB Memorandum M-19-04, Implementation of Penalty Inflation Adjustments for 2019, Pursuant to the Federal Civil Penalties Inflation Adjustment Act Improvements Act of 2015, Dec. 14, 2018. https://www.whitehouse.gov/wp-content/uploads/2017/11/m_19_04.pdf.

B. U.S. Customs and Border Protection

U.S. Customs and Border Protection (CBP) assesses civil monetary penalties under various titles of the United States Code and the CFR. These include penalties for certain violations of title 8 of the CFR regarding the Immigration and Nationality Act of 1952 (Pub. L. 82-414, as amended) (INA). The INA contains provisions that impose penalties on persons, including carriers and aliens, who violate specified provisions of the INA. The relevant penalty provisions are located in numerous sections of the INA, however CBP has enumerated these penalties in regulation in one location—8 CFR 280.53. For a complete list of the INA sections for which penalties are assessed, in addition to a brief description of each violation, see the IFR preamble at 81 FR 42989-42990.

On December 8, 2017, CBP adjusted three non-INA penalties inadvertently left out of the IFR and 2017 final rule.¹⁰ The three penalties concerned the following violations: Transporting passengers between coastwise points in the United States by a non-coastwise qualified vessel; towing a vessel between coastwise points in the United States by a non-coastwise qualified vessel; and dealing in or using an empty stamped imported liquor container after it has already been used once. On December 28, 2018, CBP adjusted two additional non-INA penalties inadvertently left out of the IFR and 2018 final rule.¹¹ The two penalties concern the following violations: Transporting passengers coastwise for hire by certain vessels (known as Bowaters vessels) that do not meet specified conditions; and employing a vessel in a trade without a required Certificate of Documentation. This final rule incorporates these penalties, in addition to the other CBP penalties, and adjusts them according to the 2019 multiplier.

¹⁰ See 82 FR 57821.

¹¹ See 83 FR 67069.

Below is a table showing the 2019 adjustment for the penalties that CBP administers.

Table 2—U.S. Customs and Border Protection Civil Penalties Adjustments
Penalty name | Citation | Penalty amount as adjusted in the 2018 FR | Multiplier * | New penalty as adjusted by this final rule
Penalties for non-compliance with arrival and departure manifest requirements for passengers, crewmembers, or occupants transported on commercial vessels or aircraft arriving to or departing from the United States | 8 U.S.C. 1221(g); 8 CFR 280.53(b)(1) (INA section 231(g)) | $1,360 | 1.02522 | $1,394.
Penalties for non-compliance with landing requirements at designated ports of entry for aircraft transporting aliens | 8 U.S.C. 1224; 8 CFR 280.53(b)(2); (INA section 234) | 3,695 | 1.02522 | 3,788.
Penalties for failure to depart voluntarily | 8 U.S.C. 1229c(d); 8 CFR 280.53(b)(3) (INA section 240B(d)) | 1,558-7,791 | 1.02522 | 1,597-7,987.
Penalties for violations of removal orders relating to aliens transported on vessels or aircraft under section 241(d) of the INA, or for costs associated with removal under section 241(e) of the INA | 8 U.S.C. 1253(c)(1)(A); 8 CFR 280.53(b)(4); (INA section 243(c)(1)(A)) | 3,116 | 1.02522 | 3,195.
Penalties for failure to remove alien stowaways under section 241(d)(2) of the INA | 8 U.S.C. 1253(c)(1)(B); 8 CFR 280.53(b)(5) (INA section 243(c)(1)(B)) | 7,791 | 1.02522 | 7,987.
Penalties for failure to report an illegal landing or desertion of alien crewmen, and for each alien not reported on arrival or departure manifest or lists required in accordance with section 251 of the INA | 8 U.S.C. 1281(d); 8 CFR 280.53(b)(6); (INA section 251(d)) | 369 for each alien | 1.02522 | 378.
Penalties for use of alien crewmen for longshore work in violation of section 251(d) of the INA | 8 U.S.C. 1281(d); 8 CFR 280.53(b)(6); (INA section 251(d)) | 9,239 | 1.02522 | 9,472.
Penalties for failure to control, detain, or remove alien crewmen | 8 U.S.C. 1284(a); 8 CFR 280.53(b)(7) (INA section 254(a)) | 924-5,543 | 1.02522 | 947-5,683.
Penalties for employment on passenger vessels of aliens afflicted with certain disabilities | 8 U.S.C. 1285; 8 CFR 280.53(b)(8) (INA section 255) | 1,848 | 1.02522 | 1,895.
Penalties for discharge of alien crewmen | 8 U.S.C. 1286; 8 CFR 280.53(b)(9) (INA section 256) | 2,771-5,543 | 1.02522 | 2,841-5,683.
Penalties for bringing into the United States alien crewmen with intent to evade immigration laws | 8 U.S.C. 1287; 8 CFR 280.53(b)(10); (INA section 257) | 18,477 | 1.02522 | 18,943.
Penalties for failure to prevent the unauthorized landing of aliens | 8 U.S.C. 1321(a); 8 CFR 280.53(b)(11) (INA section 271(a)) | 5,543 | 1.02522 | 5,683.
Penalties for bringing to the United States aliens subject to denial of admission on a health-related ground | 8 U.S.C. 1322(a); 8 CFR 280.53(b)(12) (INA section 272(a)) | 5,543 | 1.02522 | 5,683.
Penalties for bringing to the United States aliens without required documentation | 8 U.S.C. 1323(b); 8 CFR 280.53(b)(13) (INA section 273(b)) | 5,543 | 1.02522 | 5,683.
Penalties for failure to depart | 8 U.S.C. 1324d; 8 CFR 280.53(b)(14) (INA section 274D) | 779 | 1.02522 | 799.
Penalties for improper entry | 8 U.S.C. 1325(b); 8 CFR 280.53(b)(15) (INA section 275(b)) | 78-390 | 1.02522 | 80-400.
Penalty for dealing in or using empty stamped imported liquor containers | 19 U.S.C. 469 | 518 | 1.02522 | *** 531.
Penalty for employing a vessel in a trade without a required Certificate of Documentation ** | 19 U.S.C. 1706a; 19 CFR 4.80(i) | 1296 | 1.02522 | 1329.
Penalty for transporting passengers coastwise for hire by certain vessels (known as Bowaters vessels) that do not meet specified conditions ** | 46 U.S.C. 12118(f)(3) | 518 | 1.02522 | *** 531.
Penalty for transporting passengers between coastwise points in the United States by a non-coastwise qualified vessel | 46 U.S.C. 55103(b); 19 CFR 4.80(b)(2) | 778 | 1.02522 | 798.
Penalty for towing a vessel between coastwise points in the United States by a non-coastwise qualified vessel | 46 U.S.C. 55111(c); 19 CFR 4.92 | 907-2852, plus 155 per ton | 1.02522 | 930-2,924, plus 159 per ton.
* OMB Memorandum M-19-04, Implementation of Penalty Inflation Adjustments for 2019, Pursuant to the Federal Civil Penalties Inflation Adjustment Act Improvements Act of 2015, Dec. 14, 2018. https://www.whitehouse.gov/wp-content/uploads/2017/11/m_19_04.pdf.
** Adjustments made in the December 28, 2018 final rule, 83 FR 67069.
*** No applicable conforming edit to regulatory text.

C. U.S. Immigration and Customs Enforcement

U.S. Immigration and Customs Enforcement (ICE) assesses civil monetary penalties for certain employment-related violations arising from the INA. ICE's civil penalties are located in title 8 of the CFR.

There are three different sections in the INA that impose civil monetary penalties for violations of the laws that relate to employment actions: Sections 274A, 274B, and 274C. ICE has primary enforcement responsibilities for two of these civil penalty provisions (sections 274A and 274C), and the Department of Justice (DOJ) has enforcement responsibilities for one of these civil penalty provisions (section 274B). The INA, in sections 274A and 274C, provides for imposition of civil penalties for various specified unlawful acts pertaining to the employment eligibility verification process (Form I-9, Employment Eligibility Verification), the employment of unauthorized aliens, and document fraud.

Because both DHS and DOJ implement the three employment-related penalty sections in the INA, both Departments' implementing regulations reflect the civil penalty amounts. For a complete description of the civil money penalties assessed and a discussion of DHS's and DOJ's efforts to update the penalties in years past, see the IFR preamble at 81 FR 42991. Below is a table showing the 2019 adjustment for the penalties that ICE administers.¹²

¹² Table 3 also includes two civil penalties that are also listed as penalties administered by CBP. These are penalties for failure to depart voluntarily, INA section 240B(d), and failure to depart after a final order of removal, INA section 274D. Both CBP and ICE may administer these penalties, but as ICE is the DHS component primarily responsible for assessing and collecting them, they are also listed among the penalties ICE administers.

Table 3—U.S. Immigration and Customs Enforcement Civil Penalties Adjustments
Penalty name | Citation | Penalty amount as adjusted in the 2018 FR | Multiplier * | New penalty as adjusted by this final rule
Civil penalties for failure to depart voluntarily, INA section 240B(d) | 8 U.S.C. 1229c(d); 8 CFR 280.53(b)(3) | $1,558-$7,791 | 1.02522 | $1,597-$7,987
Civil penalties for violation of INA sections 274C(a)(1)-(a)(4), penalty for first offense | 8 CFR 270.3(b)(1)(ii)(A) | 461-3,695 | 1.02522 | 473-3,788
Civil penalties for violation of INA sections 274C(a)(5)-(a)(6), penalty for first offense | 8 CFR 270.3(b)(1)(ii)(B) | 390-3,116 | 1.02522 | 400-3,195
Civil penalties for violation of INA sections 274C(a)(1)-(a)(4), penalty for subsequent offenses | 8 CFR 270.3(b)(1)(ii)(C) | 3,695-9,239 | 1.02522 | 3,788-9,472
Civil penalties for violation of INA sections 274C(a)(5)-(a)(6), penalty for subsequent offenses | 8 CFR 270.3(b)(1)(ii)(D) | 3,116-7,791 | 1.02522 | 3,195-7,987
Violation/prohibition of indemnity bonds | 8 CFR 274a.8(b) | 2,236 | 1.02522 | 2,292
Civil penalties for knowingly hiring, recruiting, referral, or retention of unauthorized aliens—Penalty for first offense (per unauthorized alien) | 8 CFR 274a.10(b)(1)(ii)(A) | 559-4,473 | 1.02522 | 573-4,586
Penalty for second offense (per unauthorized alien) | 8 CFR 274a.10(b)(1)(ii)(B) | 4,473-11,181 | 1.02522 | 4,586-11,463
Penalty for third or subsequent offense (per unauthorized alien) | 8 CFR 274a.10(b)(1)(ii)(C) | 6,709-22,363 | 1.02522 | 6,878-22,927
Civil penalties for I-9 paperwork violations | 8 CFR 274a.10(b)(2) | 224-2,236 | 1.02522 | 230-2,292
Civil penalties for failure to depart, INA section 274D | 8 U.S.C. 1324d; 8 CFR 280.53(b)(14) | 779 | 1.02522 | ¹³ 799
* OMB Memorandum M-19-04, Implementation of Penalty Inflation Adjustments for 2019, Pursuant to the Federal Civil Penalties Inflation Adjustment Act Improvements Act of 2015, Dec. 14, 2018. https://www.whitehouse.gov/wp-content/uploads/2017/11/m_19_04.pdf.

¹³ As written prior to this final rule, the regulatory text at 8 CFR 280.53(b)(14) did not make clear that the amount stated is a maximum. The statutory authority for the penalty, 8 U.S.C. 1324d, is clear that the amount reflects a maximum penalty. Thus, consistent with the statutory authority, and to prevent any confusion, DHS is making a technical clarification with this final rule by adding the word “maximum” to paragraph (b)(14).

D. U.S. Coast Guard

The Coast Guard is authorized to assess close to 150 penalties involving maritime safety and security and environmental stewardship that are critical to the continued success of Coast Guard missions. Various statutes in titles 14, 16, 19, 33, 42, 46, and 49 of the United States Code authorize these penalties. Titles 33 and 46 authorize the vast majority of these penalties as these statutes deal with navigation, navigable waters, and shipping. Beyond titles 33 and 46, the Coast Guard is also authorized to collect civil monetary penalties related to the organization and management of the Coast Guard, aquatic species conservation, obstruction of revenue, and hazardous substances and materials. For a complete discussion of the civil monetary penalties assessed by the Coast Guard, see the IFR preamble at 81 FR 42992.

The Coast Guard has identified the penalties it administers, adjusted those penalties for inflation, and is listing those new penalties in a table located in the CFR—specifically, Table 1 in 33 CFR 27.3. Table 1 in 33 CFR 27.3 identifies the statutes that provide the Coast Guard with civil monetary penalty authority and sets out the inflation-adjusted maximum penalty that the Coast Guard may impose pursuant to each statutory provision. Table 1 in 33 CFR 27.3 provides the current maximum penalty for violations that occurred after November 2, 2015.¹⁴

¹⁴ The Frank LoBiondo Coast Guard Authorization Act of 2018 re-designated certain existing sections of the United States Code, including 14 U.S.C. 88 (now 14 U.S.C. 521) and 33 U.S.C. 1232 and 1236 (now 46 U.S.C. 70036 and 70041). The revised table reflects those changes to the statutory citations.

The applicable civil penalty amounts for violations occurring on or before November 2, 2015 are set forth in previously published regulations amending 33 CFR part 27. To find the applicable penalty amount for a violation that occurred on or before November 2, 2015, look to the prior versions of the CFR that pertain to the date on which the violation occurred. Table 4 below shows the 2019 adjustment for the penalties that the Coast Guard administers.

Table 4—U.S. Coast Guard Civil Penalties Adjustments
Penalty name | Citation | Penalty amount as adjusted in the 2018 FR | Multiplier * | New penalty as adjusted by this final rule
Saving Life and Property | 14 U.S.C. 521(c) | $10,389 | 1.02522 | $10,651
Saving Life and Property; Intentional Interference with Broadcast | 14 U.S.C. 521(e) | 1,066 | 1.02522 | 1,093
Confidentiality of Medical Quality Assurance Records (first offense) | 14 U.S.C. 645(i); 33 CFR 27.3 | 5,218 | 1.02522 | 5,350
Confidentiality of Medical Quality Assurance Records (subsequent offenses) | 14 U.S.C. 645(i); 33 CFR 27.3 | 34,791 | 1.02522 | 35,668
Aquatic Nuisance Species in Waters of the United States | 16 U.S.C. 4711(g)(1); 33 CFR 27.3 | 38,954 | 1.02522 | 39,936
Obstruction of Revenue Officers by Masters of Vessels | 19 U.S.C. 70; 33 CFR 27.3 | 7,779 | 1.02522 | 7,975
Obstruction of Revenue Officers by Masters of Vessels—Minimum Penalty | 19 U.S.C. 70; 33 CFR 27.3 | 1,815 | 1.02522 | 1,861
Failure to Stop Vessel When Directed; Master, Owner, Operator or Person in Charge | 19 U.S.C. 1581(d) | ** 5,000 | N/A | ** 5,000
Failure to Stop Vessel When Directed; Master, Owner, Operator or Person in Charge—Minimum Penalty | 19 U.S.C. 1581(d) | ** 1,000 | N/A | ** 1,000
Anchorage Ground/Harbor Regulations General | 33 U.S.C. 471; 33 CFR 27.3 | 11,279 | 1.02522 | 11,563
Anchorage Ground/Harbor Regulations St. Mary's river | 33 U.S.C. 474; 33 CFR 27.3 | 778 | 1.02522 | 798
Bridges/Failure to Comply with Regulations | 33 U.S.C. 495(b); 33 CFR 27.3 | 28,474 | 1.02522 | 29,192
Bridges/Drawbridges | 33 U.S.C. 499(c); 33 CFR 27.3 | 28,474 | 1.02522 | 29,192
Bridges/Failure to Alter Bridge Obstructing Navigation | 33 U.S.C. 502(c); 33 CFR 27.3 | 28,474 | 1.02522 | 29,192
Bridges/Maintenance and Operation | 33 U.S.C. 533(b); 33 CFR 27.3 | 28,474 | 1.02522 | 29,192
Bridge to Bridge Communication; Master, Person in Charge or Pilot | 33 U.S.C. 1208(a); 33 CFR 27.3 | 2,074 | 1.02522 | 2,126
Bridge to Bridge Communication; Vessel | 33 U.S.C. 1208(b); 33 CFR 27.3 | 2,074 | 1.02522 | 2,126
Oil/Hazardous Substances: Discharges (Class I per violation) | 33 U.S.C. 1321(b)(6)(B)(i); 33 CFR 27.3 | 18,477 | 1.02522 | 18,943
Oil/Hazardous Substances: Discharges (Class I total under paragraph) | 33 U.S.C. 1321(b)(6)(B)(i); 33 CFR 27.3 | 46,192 | 1.02522 | 47,357
Oil/Hazardous Substances: Discharges (Class II per day of violation) | 33 U.S.C. 1321(b)(6)(B)(ii); 33 CFR 27.3 | 18,477 | 1.02522 | 18,943
Oil/Hazardous Substances: Discharges (Class II total under paragraph) | 33 U.S.C. 1321(b)(6)(B)(ii); 33 CFR 27.3 | 230,958 | 1.02522 | 236,783
Oil/Hazardous Substances: Discharges (per day of violation) Judicial Assessment | 33 U.S.C. 1321(b)(7)(A); 33 CFR 27.3 | 46,192 | 1.02522 | 47,357
Oil/Hazardous Substances: Discharges (per barrel of oil or unit discharged) Judicial Assessment | 33 U.S.C. 1321(b)(7)(A); 33 CFR 27.3 | 1,848 | 1.02522 | 1,895
Oil/Hazardous Substances: Failure to Carry Out Removal/Comply With Order (Judicial Assessment) | 33 U.S.C. 1321(b)(7)(B); 33 CFR 27.3 | 46,192 | 1.02522 | 47,357
Oil/Hazardous Substances: Failure to Comply with Regulation Issued Under 1321(j) (Judicial Assessment) | 33 U.S.C. 1321(b)(7)(C); 33 CFR 27.3 | 46,192 | 1.02522 | 47,357
Oil/Hazardous Substances: Discharges, Gross Negligence (per barrel of oil or unit discharged) Judicial Assessment | 33 U.S.C. 1321(b)(7)(D); 33 CFR 27.3 | 5,543 | 1.02522 | 5,683
Oil/Hazardous Substances: Discharges, Gross Negligence—Minimum Penalty (Judicial Assessment) | 33 U.S.C. 1321(b)(7)(D); 33 CFR 27.3 | 184,767 | 1.02522 | 189,427
Marine Sanitation Devices; Operating | 33 U.S.C. 1322(j); 33 CFR 27.3 | 7,779 | 1.02522 | 7,975
Marine Sanitation Devices; Sale or Manufacture | 33 U.S.C. 1322(j); 33 CFR 27.3 | 20,742 | 1.02522 | 21,265
International Navigation Rules; Operator | 33 U.S.C. 1608(a); 33 CFR 27.3 | 14,543 | 1.02522 | 14,910
International Navigation Rules; Vessel | 33 U.S.C. 1608(b); 33 CFR 27.3 | 14,543 | 1.02522 | 14,910
Pollution from Ships; General | 33 U.S.C. 1908(b)(1); 33 CFR 27.3 | 72,718 | 1.02522 | 74,552
Pollution from Ships; False Statement | 33 U.S.C. 1908(b)(2); 33 CFR 27.3 | 14,543 | 1.02522 | 14,910
Inland Navigation Rules; Operator | 33 U.S.C. 2072(a); 33 CFR 27.3 | 14,543 | 1.02522 | 14,910
Inland Navigation Rules; Vessel | 33 U.S.C. 2072(b); 33 CFR 27.3 | 14,543 | 1.02522 | 14,910
Shore Protection; General | 33 U.S.C. 2609(a); 33 CFR 27.3 | 51,302 | 1.02522 | 52,596
Shore Protection; Operating Without Permit | 33 U.S.C. 2609(b); 33 CFR 27.3 | 20,521 | 1.02522 | 21,039
Oil Pollution Liability and Compensation | 33 U.S.C. 2716a(a); 33 CFR 27.3 | 46,192 | 1.02522 | 47,357
Clean Hulls | 33 U.S.C. 3852(a)(1)(A); 33 CFR 27.3 | 42,292 | 1.02522 | 43,359
Clean Hulls-related to false statements | 33 U.S.C. 3852(a)(1)(A); 33 CFR 27.3 | 56,391 | 1.02522 | 57,813
Clean Hulls—Recreational Vessel | 33 U.S.C. 3852(c); 33 CFR 27.3 | 5,639 | 1.02522 | 5,781
Hazardous Substances, Releases, Liability, Compensation (Class I) | 42 U.S.C. 9609(a); 33 CFR 27.3 | 55,907 | 1.02522 | 57,317
Hazardous Substances, Releases, Liability, Compensation (Class II) | 42 U.S.C. 9609(b); 33 CFR 27.3 | 55,907 | 1.02522 | 57,317
Hazardous Substances, Releases, Liability, Compensation (Class II subsequent offense) | 42 U.S.C. 9609(b); 33 CFR 27.3 | 167,722 | 1.02522 | 171,952
Hazardous Substances, Releases, Liability, Compensation (Judicial Assessment) | 42 U.S.C. 9609(c); 33 CFR 27.3 | 55,907 | 1.02522 | 57,317
Hazardous Substances, Releases, Liability, Compensation (Judicial Assessment subsequent offense) | 42 U.S.C. 9609(c); 33 CFR 27.3 | 167,722 | 1.02522 | 171,952
Safe Containers for International Cargo | 46 U.S.C. App 1505(a)(2) (codified as 46 U.S.C. 80509); 33 CFR 27.3 | 6,111 | 1.02522 | 6,265
Suspension of Passenger Service | 46 U.S.C. App 1805(c)(2) (codified 46 U.S.C. 70305); 33 CFR 27.3 | 61,115 | 1.02522 | 62,656
Vessel Inspection or Examination Fees | 46 U.S.C. 2110(e); 33 CFR 27.3 | 9,239 | 1.02522 | 9,472
Alcohol and Dangerous Drug Testing | 46 U.S.C. 2115; 33 CFR 27.3 | 7,520 | 1.02522 | 7,710
Negligent Operations: Recreational Vessels | 46 U.S.C. 2302(a); 33 CFR 27.3 | 6,802 | 1.02522 | 6,974
Negligent Operations: Other Vessels | 46 U.S.C. 2302(a); 33 CFR 27.3 | 34,013 | 1.02522 | 34,871
Operating a Vessel While Under the Influence of Alcohol or a Dangerous Drug | 46 U.S.C. 2302(c)(1); 33 CFR 27.3 | 7,520 | 1.02522 | 7,710
Vessel Reporting Requirements: Owner, Charterer, Managing Operator, or Agent | 46 U.S.C. 2306(a)(4); 33 CFR 27.3 | 11,712 | 1.02522 | 12,007
Vessel Reporting Requirements: Master | 46 U.S.C. 2306(b)(2); 33 CFR 27.3 | 2,343 | 1.02522 | 2,402
Immersion Suits | 46 U.S.C. 3102(c)(1); 33 CFR 27.3 | 11,712 | 1.02522 | 12,007
Inspection Permit | 46 U.S.C. 3302(i)(5); 33 CFR 27.3 | 2,443 | 1.02522 | 2,505
Vessel Inspection; General | 46 U.S.C. 3318(a); 33 CFR 27.3 | 11,712 | 1.02522 | 12,007
Vessel Inspection; Nautical School Vessel | 46 U.S.C. 3318(g); 33 CFR 27.3 | 11,712 | 1.02522 | 12,007
Vessel Inspection; Failure to Give Notice IAW 3304(b) | 46 U.S.C. 3318(h); 33 CFR 27.3 | 2,343 | 1.02522 | 2,402
Vessel Inspection; Failure to Give Notice IAW 3309(c) | 46 U.S.C. 3318(i); 33 CFR 27.3 | 2,343 | 1.02522 | 2,402
Vessel Inspection; Vessel ≥1,600 Gross Tons | 46 U.S.C. 3318(j)(1); 33 CFR 27.3 | 23,426 | 1.02522 | 24,017
Vessel Inspection; Vessel <1,600 Gross Tons | 46 U.S.C. 3318(j)(1); 33 CFR 27.3 | 4,685 | 1.02522 | 4,803
Vessel Inspection; Failure to Comply with 3311(b) | 46 U.S.C. 3318(k); 33 CFR 27.3 | 23,426 | 1.02522 | 24,017
Vessel Inspection; Violation of 3318(b)-3318(f) | 46 U.S.C. 3318(l); 33 CFR 27.3 | 11,712 | 1.02522 | 12,007
List/count of Passengers | 46 U.S.C. 3502(e); 33 CFR 27.3 | 244 | 1.02522 | 250
Notification to Passengers | 46 U.S.C. 3504(c); 33 CFR 27.3 | 24,421 | 1.02522 | 25,037
Notification to Passengers; Sale of Tickets | 46 U.S.C. 3504(c); 33 CFR 27.3 | 1,220 | 1.02522 | 1,251
Copies of Laws on Passenger Vessels; Master | 46 U.S.C. 3506; 33 CFR 27.3 | 489 | 1.02522 | 501
Liquid Bulk/Dangerous Cargo | 46 U.S.C. 3718(a)(1); 33 CFR 27.3 | 61,055 | 1.02522 | 62,595
Uninspected Vessels | 46 U.S.C. 4106; 33 CFR 27.3 | 10,260 | 1.02522 | 10,519
Recreational Vessels (maximum for related series of violations) | 46 U.S.C. 4311(b)(1); 33 CFR 27.3 | 323,027 | 1.02522 | 331,174
Recreational Vessels; Violation of 4307(a) | 46 U.S.C. 4311(b)(1); 33 CFR 27.3 | 6,460 | 1.02522 | 6,623
Recreational vessels | 46 U.S.C. 4311(c); 33 CFR 27.3 | 2,443 | 1.02522 | 2,505
Uninspected Commercial Fishing Industry Vessels | 46 U.S.C. 4507; 33 CFR 27.3 | 10,260 | 1.02522 | 10,519
Abandonment of Barges | 46 U.S.C. 4703; 33 CFR 27.3 | 1,739 | 1.02522 | 1,783
Load Lines | 46 U.S.C. 5116(a); 33 CFR 27.3 | 11,181 | 1.02522 | 11,463
Load Lines; Violation of 5112(a) | 46 U.S.C. 5116(b); 33 CFR 27.3 | 22,363 | 1.02522 | 22,927
Load Lines; Violation of 5112(b) | 46 U.S.C. 5116(c); 33 CFR 27.3 | 11,181 | 1.02522 | 11,463
Reporting Marine Casualties | 46 U.S.C. 6103(a); 33 CFR 27.3 | 38,954 | 1.02522 | 39,936
Reporting Marine Casualties; Violation of 6104 | 46 U.S.C. 6103(b); 33 CFR 27.3 | 10,260 | 1.02522 | 10,519
Manning of Inspected Vessels; Failure to Report Deficiency in Vessel Complement | 46 U.S.C. 8101(e); 33 CFR 27.3 | 1,848 | 1.02522 | 1,895
Manning of Inspected Vessels | 46 U.S.C. 8101(f); 33 CFR 27.3 | 18,477 | 1.02522 | 18,943
Manning of Inspected Vessels; Employing or Serving in Capacity not Licensed by USCG | 46 U.S.C. 8101(g); 33 CFR 27.3 | 18,477 | 1.02522 | 18,943
Manning of Inspected Vessels; Freight Vessel <100 GT, Small Passenger Vessel, or Sailing School Vessel | 46 U.S.C. 8101(h); 33 CFR 27.3 | 2,443 | 1.02522 | 2,505
Watchmen on Passenger Vessels | 46 U.S.C. 8102(a) | 2,443 | 1.02522 | 2,505
Citizenship Requirements | 46 U.S.C. 8103(f) | 1,220 | 1.02522 | 1,251
Watches on Vessels; Violation of 8104(a) or (b) | 46 U.S.C. 8104(i) | 18,477 | 1.02522 | 18,943
Watches on Vessels; Violation of 8104(c), (d), (e), or (h) | 46 U.S.C. 8104(j) | 18,477 | 1.02522 | 18,943
Staff Department on Vessels | 46 U.S.C. 8302(e) | 244 | 1.02522 | 250
Officer's Competency Certificates | 46 U.S.C. 8304(d) | 244 | 1.02522 | 250
Coastwise Pilotage; Owner, Charterer, Managing Operator, Agent, Master or Individual in Charge | 46 U.S.C. 8502(e) | 18,477 | 1.02522 | 18,943
Coastwise Pilotage; Individual | 46 U.S.C. 8502(f) | 18,477 | 1.02522 | 18,943
Federal Pilots | 46 U.S.C. 8503 | 58,562 | 1.02522 | 60,039
Merchant Mariners Documents | 46 U.S.C. 8701(d) | 1,220 | 1.02522 | 1,251
Crew Requirements | 46 U.S.C. 8702(e) | 18,477 | 1.02522 | 18,943
Small Vessel Manning | 46 U.S.C. 8906 | 38,954 | 1.02522 | 39,936
Pilotage: Great Lakes; Owner, Charterer, Managing Operator, Agent, Master or Individual in Charge | 46 U.S.C. 9308(a) | 18,477 | 1.02522 | 18,943
Pilotage: Great Lakes; Individual | 46 U.S.C. 9308(b) | 18,477 | 1.02522 | 18,943
Pilotage: Great Lakes; Violation of 9303 | 46 U.S.C. 9308(c) | 18,477 | 1.02522 | 18,943
Failure to Report Sexual Offense | 46 U.S.C. 10104(b) | 9,819 | 1.02522 | 10,067
Pay Advances to Seamen | 46 U.S.C. 10314(a)(2) | 1,220 | 1.02522 | 1,251
Pay Advances to Seamen; Remuneration for Employment | 46 U.S.C. 10314(b) | 1,220 | 1.02522 | 1,251
Allotment to Seamen | 46 U.S.C. 10315(c) | 1,220 | 1.02522 | 1,251
Seamen Protection; General | 46 U.S.C. 10321 | 8,465 | 1.02522 | 8,678
Coastwise Voyages: Advances | 46 U.S.C. 10505(a)(2) | 8,465 | 1.02522 | 8,678
Coastwise Voyages: Advances; Remuneration for Employment | 46 U.S.C. 10505(b) | 8,465 | 1.02522 | 8,678
Coastwise Voyages: Seamen Protection; General | 46 U.S.C. 10508(b) | 8,465 | 1.02522 | 8,678
Effects of Deceased Seamen | 46 U.S.C. 10711 | 489 | 1.02522 | 501
Complaints of Unfitness | 46 U.S.C. 10902(a)(2) | 1,220 | 1.02522 | 1,251
Proceedings on Examination of Vessel | 46 U.S.C. 10903(d) | 244 | 1.02522 | 250
Permission to Make Complaint | 46 U.S.C. 10907(b) | 1,220 | 1.02522 | 1,251
Accommodations for Seamen | 46 U.S.C. 11101(f) | 1,220 | 1.02522 | 1,251
Medicine Chests on Vessels | 46 U.S.C. 11102(b) | 1,220 | 1.02522 | 1,251
Destitute Seamen | 46 U.S.C. 11104(b) | 244 | 1.02522 | 250
Wages on Discharge | 46 U.S.C. 11105(c) | 1,220 | 1.02522 | 1,251
Log Books; Master Failing to Maintain | 46 U.S.C. 11303(a) | 489 | 1.02522 | 501
Log Books; Master Failing to Make Entry | 46 U.S.C. 11303(b) | 489 | 1.02522 | 501
Log Books; Late Entry | 46 U.S.C. 11303(c) | 366 | 1.02522 | 375
Carrying of Sheath Knives | 46 U.S.C. 11506 | 122 | 1.02522 | 125
Vessel Documentation | 46 U.S.C. 12151(a)(1) | 15,995 | 1.02522 | 16,398
Documentation of Vessels—Related to Activities involving mobile offshore drilling units | 46 U.S.C. 12151 (a)(2) | 26,659 | 1.02522 | 27,331
Vessel Documentation; Fishery Endorsement | 46 U.S.C. 12151(c) | 122,231 | 1.02522 | 125,314
Numbering of Undocumented Vessels—Willful violation | 46 U.S.C. 12309(a) | 12,211 | 1.02522 | 12,519
Numbering of Undocumented Vessels | 46 U.S.C. 12309(b) | 2,443 | 1.02522 | 2,505
Vessel Identification System | 46 U.S.C. 12507(b) | 20,521 | 1.02522 | 21,039
Measurement of Vessels | 46 U.S.C. 14701 | 44,727 | 1.02522 | 45,855
Measurement; False Statements | 46 U.S.C. 14702 | 44,727 | 1.02522 | 45,855
Commercial Instruments and Maritime Liens | 46 U.S.C. 31309 | 20,521 | 1.02522 | 21,039
Commercial Instruments and Maritime Liens; Mortgagor | 46 U.S.C. 31330(a)(2) | 20,521 | 1.02522 | 21,039
Commercial Instruments and Maritime Liens; Violation of 31329 | 46 U.S.C. 31330(b)(2) | 51,302 | 1.02522 | 52,596
Ports and Waterway Safety Regulations | 46 U.S.C. 70036(a); 33 CFR 27.3 | 91,901 | 1.02522 | 94,219
Vessel Navigation: Regattas or Marine Parades; Unlicensed Person in Charge | 46 U.S.C. 70041(d)(1)(B); 33 CFR 27.3 | 9,239 | 1.02522 | 9,472
Vessel Navigation: Regattas or Marine Parades; Owner Onboard Vessel | 46 U.S.C. 70041(d)(1)(C); 33 CFR 27.3 | 9,239 | 1.02522 | 9,472
Vessel Navigation: Regattas or Marine Parades; Other Persons | 46 U.S.C. 70041(d)(1)(D); 33 CFR 27.3 | 4,619 | 1.02522 | 4,735
Port Security | 46 U.S.C. 70119(a) | 34,013 | 1.02522 | 34,871
Port Security—Continuing Violations | 46 U.S.C. 70119(b) | 61,115 | 1.02522 | 62,656
Maritime Drug Law Enforcement | 46 U.S.C. 70506(c) | 5,639 | 1.02522 | 5,781
Hazardous Materials: Related to Vessels | 49 U.S.C. 5123(a)(1) | 79,976 | 1.02522 | 81,993
Hazardous Materials: Related to Vessels—Penalty from Fatalities, Serious Injuries/Illness or substantial Damage to Property | 49 U.S.C. 5123(a)(2) | 186,610 | 1.02522 | 191,316
Hazardous Materials: Related to Vessels; Training | 49 U.S.C. 5123(a)(3) | 481 | 1.02522 | 493
* OMB Memorandum M-19-04, Implementation of Penalty Inflation Adjustments for 2019, Pursuant to the Federal Civil Penalties Inflation Adjustment Act Improvements Act of 2015, Dec. 14, 2018. https://www.whitehouse.gov/wp-content/uploads/2017/11/m_19_04.pdf.
** Enacted under the Tariff Act; exempt from inflation adjustments.

E. Transportation Security Administration

The Transportation Security Administration (TSA) is updating its civil penalties regulation in accordance with the 2015 Act. Pursuant to its statutory authority in 49 U.S.C. 46301(a)(1), (4), (5), 49 U.S.C. 46301(d)(8), and 49 U.S.C. 114(v),¹⁵ TSA may impose penalties for violations of any statute that TSA administers, whether an implementing regulation or order imposes the penalty. TSA assesses these penalties for a wide variety of aviation and surface security requirements, including violations of TSA's requirements applicable to Transportation Worker Identification Credentials (TWIC),¹⁶ as well as violations of requirements described in chapter 449 of title 49 of the United States Code. These penalties can apply to a wide variety of situations, as described in the statutory and regulatory provisions, as well as in guidance that TSA publishes. Below is a table showing the 2019 adjustment for the penalties that TSA administers.

¹⁵ As amended by sec. 1302 of the Implementing Recommendations of the 9/11 Commission Act of 2007 (Pub. L. 110-53, 121 Stat. 266 (Aug. 3, 2007)).

¹⁶ See, e.g., 46 U.S.C. 70105, 49 U.S.C. 46302 and 46303, and 49 U.S.C. chapter 449.

Table 5—Transportation Security Administration Civil Penalties Adjustments
Penalty name | Citation | Penalty amount as adjusted in the 2018 FR | Multiplier * | New penalty as adjusted by this final rule
Violation of 49 U.S.C. ch. 449 (except secs. 44902, 44903(d), 44907(a)-(d)(1)(A), 44907(d)(1)(C)-(f), 44908, and 44909), or 49 U.S.C. 46302 or 46303, a regulation prescribed, or order issued thereunder by a person operating an aircraft for the transportation of passengers or property for compensation. | 49 U.S.C. 46301(a)(1), (4), (5); 49 U.S.C. 46301(d)(8); 49 CFR 1503.401(c)(3) | $33,333 (up to a total of $533,324 per civil penalty action) | 1.02522 | $34,174 (up to a total of $546,774 per civil penalty action).
Violation of 49 U.S.C. ch. 449 (except secs. 44902, 44903(d), 44907(a)-(d)(1)(A), 44907(d)(1)(C)-(f), 44908, and 44909), or 49 U.S.C. 46302 or 46303, a regulation prescribed, or order issued thereunder by an individual (except an airman serving as an airman), any person not operating an aircraft for the transportation of passengers or property for compensation, or a small business concern. | 49 U.S.C. 46301(a)(1), (4), (5); 49 U.S.C. 46301(d)(8); 49 CFR 1503.401(c)(1) and (2). | $13,333 (up to a total of $66,666 total for small businesses, $533,324 for others) | 1.02522 | $13,669 (up to a total of $68,347 total for small business, $546,774 for others).
Violation of any other provision of title 49 U.S.C. or of 46 U.S.C. ch. 701, a regulation prescribed, or order issued thereunder. | 49 U.S.C. 114(v); 49 CFR 1503.401(b). | $11,410 (up to a total of $57,051 total for small businesses, $456,409 for others) | 1.02522 | $11,698 (up to a total of $58,490 total for small businesses, $467,920 for others).
* OMB Memorandum M-19-04, Implementation of Penalty Inflation Adjustments for 2019, Pursuant to the Federal Civil Penalties Inflation Adjustment Act Improvements Act of 2015, Dec. 14, 2018. https://www.whitehouse.gov/wp-content/uploads/2017/11/m_19_04.pdf.

IV. Administrative Procedure Act

DHS is promulgating this final rule to ensure that the amount of civil penalties that DHS assesses or enforces reflects the statutorily mandated ranges as adjusted for inflation. The 2015 Act provides a clear formula for adjustment of the civil penalties, leaving DHS and its components with little room for discretion. DHS and its components have been charged only with performing ministerial computations to determine the amounts of adjustments for inflation to civil monetary penalties. In these annual adjustments DHS is merely updating the penalty amounts by applying the cost-of-living adjustment multiplier that OMB has provided to agencies. Furthermore, the 2015 Act specifically instructed that agencies make the required annual adjustments notwithstanding section 553 of title 5 of the United States Code. Thus, as specified in the 2015 Act, the prior public notice-and-comment procedures and delayed effective date requirements of the Administrative Procedure Act (APA) do not apply to this rule. Further, as described above, this rule also makes to minor amendments to the regulations to reflect clear statutory authority, and DHS finds that prior notice and comment procedures for these amendments are unnecessary.

V. Regulatory Analyses

A. Executive Orders 12866 and 13563

Executive Orders 12866 and 13563 direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. OMB has not designated this final rule a “significant regulatory action” under section 3(f) of Executive Order 12866. Accordingly, OMB has not reviewed this rule.

This final rule makes nondiscretionary adjustments to existing civil monetary penalties in accordance with the 2015 Act and OMB guidance.¹⁷ DHS therefore did not consider alternatives and does not have the flexibility to alter the adjustments of the civil monetary penalty amounts as provided in this rule. To the extent this final rule increases civil monetary penalties, it would result in an increase in transfers from persons or entities assessed a civil monetary penalty to the government.

¹⁷ OMB Memorandum M-19-04, Implementation of Penalty Inflation Adjustments for 2019, Pursuant to the Federal Civil Penalties Inflation Adjustment Act Improvements Act of 2015, Dec. 14, 2018. https://www.whitehouse.gov/wp-content/uploads/2017/11/m_19_04.pdf.

B. Regulatory Flexibility Act

The Regulatory Flexibility Act applies only to rules for which an agency publishes a notice of proposed rulemaking pursuant to 5 U.S.C. 553(b). See 5 U.S.C. 601-612. The Regulatory Flexibility Act does not apply to this final rule, because a notice of proposed rulemaking was not required for the reasons stated above.

C. Unfunded Mandates Reform Act

The Unfunded Mandates Reform Act of 1995, 2 U.S.C. 1531-1538, requires Federal agencies to assess the effects of their discretionary regulatory actions. In particular, the Act addresses actions that may result in the expenditure by a State, local, or Tribal government, in the aggregate, or by the private sector of $100,000,000 (adjusted for inflation) or more in any one year. This final rule will not result in such an expenditure.

D. Paperwork Reduction Act

The provisions of the Paperwork Reduction Act of 1995, 44 U.S.C. chapter 35, and its implementing regulations, 5 CFR part 1320, do not apply to this final rule, because this final rule does not trigger any new or revised recordkeeping or reporting.

VI. Signing Authority

The amendments to 19 CFR part 4 in this document are issued in accordance with 19 CFR 0.2(a), which provides that the authority of the Secretary of the Treasury with respect to CBP regulations that are not related to customs revenue functions was transferred to the Secretary of Homeland Security pursuant to Section 403(l) of the Homeland Security Act of 2002. Accordingly, this final rule to amend such regulations may be signed by the Secretary of Homeland Security (or his or her delegate).

List of Subjects

6 CFR Part 27

Reporting and recordkeeping requirements, Security measures.

8 CFR Part 270

Administrative practice and procedure, Aliens, Employment, Fraud, Penalties.

8 CFR Part 274a

Administrative practice and procedure, Aliens, Employment, Penalties, Reporting and recordkeeping requirements.

8 CFR Part 280

Administrative practice and procedure, Immigration, Penalties.

19 CFR Part 4

Exports, Freight, Harbors, Maritime carriers, Oil pollution, Reporting and recordkeeping requirements, Vessels.

33 CFR Part 27

Administrative practice and procedure, Penalties.

49 CFR Part 1503

Administrative practice and procedure, Investigations, Law enforcement, Penalties.

Amendments to the Regulations

Accordingly, for the reasons stated in the preamble, DHS is amending 6 CFR part 27, 8 CFR parts 270, 274a, and 280, 19 CFR part 4, 33 CFR part 27, and 49 CFR part 1503 as follows:

Title 6—Domestic Security

PART 27—CHEMICAL FACILITY ANTI-TERRORISM STANDARDS

1. The authority citation for part 27 is revised to read as follows:

Authority: 6 U.S.C. 624; Pub. L. 101-410, 104 Stat. 890, as amended by Pub. L. 114-74, 129 Stat. 599; Pub. L. 113-254, 128 Stat. 2898, as amended by Pub. L. 116-2, 133 Stat. 5.

2. In § 27.300, revise paragraph (b)(3) to read as follows:

§ 27.300 Orders.

* * * * *

(b) * * *

(3) Where the Assistant Secretary determines that a facility is in violation of an Order issued pursuant to paragraph (a) of this section and issues an Order Assessing Civil Penalty pursuant to paragraph (b)(1) of this section, a chemical facility is liable to the United States for a civil penalty of not more than $25,000 for each day during which the violation continues, if the violation of the Order occurred on or before November 2, 2015, or $34,871 for each day during which the violation of the Order continues, if the violation occurred after November 2, 2015.

* * * * *

Title 8—Aliens and Nationality

PART 270—PENALTIES FOR DOCUMENT FRAUD

3. The authority citation for part 270 continues to read as follows:

Authority: 8 U.S.C. 1101, 1103, and 1324c; Pub. L. 101-410, 104 Stat. 890, as amended by Pub. L. 104-134, 110 Stat. 1321 and Pub. L. 114-74, 129 Stat. 599.

4. In § 270.3, revise paragraphs (b)(1)(ii)(A) through (D) to read as follows:

§ 270.3 Penalties.

* * * * *

(b) * * *

(1) * * *

(ii) * * *

(A) First offense under section 274C(a)(1) through (a)(4). Not less than $275 and not exceeding $2,200 for each fraudulent document or each proscribed activity described in section 274C(a)(1) through (a)(4) of the Act before March 27, 2008; not less than $375 and not exceeding $3,200 for each fraudulent document or each proscribed activity described in section 274C(a)(1) through (a)(4) of the Act on or after March 27, 2008 and on or before November 2, 2015; and not less than $473 and not exceeding $3,788 for each fraudulent document or each proscribed activity described in section 274C(a)(1) through (a)(4) of the Act after November 2, 2015.

(B) First offense under section 274C(a)(5) or (a)(6). Not less than $250 and not exceeding $2,000 for each fraudulent document or each proscribed activity described in section 274C(a)(5) or (a)(6) of the Act before March 27, 2008; not less than $275 and not exceeding $2,200 for each fraudulent document or each proscribed activity described in section 274C(a)(5) or (a)(6) of the Act on or after March 27, 2008 and on or before November 2, 2015; and not less than $400 and not exceeding $3,195 for each fraudulent document or each proscribed activity described in section 274C(a)(5) or (a)(6) of the Act after November 2, 2015.

(C) Subsequent offenses under section 274C(a)(1) through (a)(4). Not less than $2,200 and not more than $5,500 for each fraudulent document or each proscribed activity described in section 274C(a)(1) through (a)(4) of the Act before March 27, 2008; not less than $3,200 and not exceeding $6,500 for each fraudulent document or each proscribed activity described in section 274C(a)(1) through (a)(4) of the Act occurring on or after March 27, 2008 and on or before November 2, 2015; and not less than $3,788 and not more than $9,472 for each fraudulent document or each proscribed activity described in section 274C(a)(1) through (a)(4) of the Act after November 2, 2015.

(D) Subsequent offenses under section 274C(a)(5) or (a)(6). Not less than $2,000 and not more than $5,000 for each fraudulent document or each proscribed activity described in section 274C(a)(5) or (a)(6) of the Act before March 27, 2008; not less than $2,200 and not exceeding $5,500 for each fraudulent document or each proscribed activity described in section 274C(a)(5) or (a)(6) of the Act occurring on or after March 27, 2008 and on or before November 2, 2015; and not less than $3,195 and not more than $7,987 for each fraudulent document or each proscribed activity described in section 274C(a)(5) or (a)(6) of the Act after November 2, 2015.

* * * * *

PART 274a—CONTROL OF EMPLOYMENT OF ALIENS

5. The authority citation for part 274a continues to read as follows:

Authority: 8 U.S.C. 1101, 1103, 1324a; 48 U.S.C. 1806; 8 CFR part 2; Pub. L. 101-410, 104 Stat. 890, as amended by Pub. L. 114-74, 129 Stat. 599.

6. In § 274a.8, revise paragraph (b) to read as follows:

§ 274a.8 Prohibition of indemnity bonds.

* * * * *

(b) Penalty. Any person or other entity who requires any individual to post a bond or security as stated in this section shall, after notice and opportunity for an administrative hearing in accordance with section 274A(e)(3)(B) of the Act, be subject to a civil monetary penalty of $1,000 for each violation before September 29, 1999, of $1,100 for each violation occurring on or after September 29, 1999 but on or before November 2, 2015, and of $2,292 for each violation occurring after November 2, 2015, and to an administrative order requiring the return to the individual of any amounts received in violation of this section or, if the individual cannot be located, to the general fund of the Treasury.

7. In § 274a.10, revise paragraphs (b)(1)(ii)(A) through (C) and the first sentence of paragraph (b)(2) to read as follows:

§ 274a.10 Penalties.

* * * * *

(b) * * *

(1) * * *

(ii) * * *

(A) First offense—not less than $275 and not more than $2,200 for each unauthorized alien with respect to whom the offense occurred before March 27, 2008; not less than $375 and not exceeding $3,200, for each unauthorized alien with respect to whom the offense occurred occurring on or after March 27, 2008 and on or before November 2, 2015; and not less than $573 and not more than $4,586 for each unauthorized alien with respect to whom the offense occurred occurring after November 2, 2015;

(B) Second offense—not less than $2,200 and not more than $5,500 for each unauthorized alien with respect to whom the second offense occurred before March 27, 2008; not less than $3,200 and not more than $6,500, for each unauthorized alien with respect to whom the second offense occurred on or after March 27, 2008 and on or before November 2, 2015; and not less than $4,586 and not more than $11,463 for each unauthorized alien with respect to whom the second offense occurred after November 2, 2015; or

(C) More than two offenses—not less than $3,300 and not more than $11,000 for each unauthorized alien with respect to whom the third or subsequent offense occurred before March 27, 2008; not less than $4,300 and not exceeding $16,000, for each unauthorized alien with respect to whom the third or subsequent offense occurred on or after March 27, 2008 and on or before November 2, 2015; and not less than $6,878 and not more than $22,927 for each unauthorized alien with respect to whom the third or subsequent offense occurred after November 2, 2015; and

* * * * *

(2) A respondent determined by the Service (if a respondent fails to request a hearing) or by an administrative law judge, to have failed to comply with the employment verification requirements as set forth in § 274a.2(b), shall be subject to a civil penalty in an amount of not less than $100 and not more than $1,000 for each individual with respect to whom such violation occurred before September 29, 1999; not less than $110 and not more than $1,100 for each individual with respect to whom such violation occurred on or after September 29, 1999 and on or before November 2, 2015; and not less than $230 and not more than $2,292 for each individual with respect to whom such violation occurred after November 2, 2015. * * *

* * * * *

PART 280—IMPOSITION AND COLLECTION OF FINES

8. The authority citation for part 280 continues to read as follows:

Authority: 8 U.S.C. 1103, 1221, 1223, 1227, 1229, 1253, 1281, 1283, 1284, 1285, 1286, 1322, 1323, 1330; 66 Stat. 173, 195, 197, 201, 203, 212, 219, 221-223, 226, 227, 230; Pub. L. 101-410, 104 Stat. 890, as amended by Pub. L. 114-74, 129 Stat. 599.

9. In § 280.53 revise paragraphs (b)(1) through (15) to read as follows:

§ 280.53 Civil monetary penalties inflation adjustment.

* * * * *

(b) * * *

(1) Section 231(g) of the Act, Penalties for non-compliance with arrival and departure manifest requirements for passengers, crewmembers, or occupants transported on commercial vessels or aircraft arriving to or departing from the United States: From $1,360 to $1,394.

(2) Section 234 of the Act, Penalties for non-compliance with landing requirements at designated ports of entry for aircraft transporting aliens: From $3,695 to $3,788.

(3) Section 240B(d) of the Act, Penalties for failure to depart voluntarily: From $1,558 minimum/$7,791 maximum to $1,597 minimum/$7,987 maximum.

(4) Section 243(c)(1)(A) of the Act, Penalties for violations of removal orders relating to aliens transported on vessels or aircraft, under section 241(d) of the Act, or for costs associated with removal under section 241(e) of the Act: From $3,116 to $3,195.

(5) Penalties for failure to remove alien stowaways under section 241(d)(2): From $7,791 to $7,987.

(6) Section 251(d) of the Act, Penalties for failure to report an illegal landing or desertion of alien crewmen, and for each alien not reported on arrival or departure manifest or lists required in accordance with section 251 of the Act: From $369 to $378; and penalties for use of alien crewmen for longshore work in violation of section 251(d) of the Act: From $9,239 to $9,472.

(7) Section 254(a) of the Act, Penalties for failure to control, detain, or remove alien crewmen: From $924 minimum/$5,543 maximum to $947 minimum/$5,683 maximum.

(8) Section 255 of the Act, Penalties for employment on passenger vessels of aliens afflicted with certain disabilities: From $1,848 to $1,895.

(9) Section 256 of the Act, Penalties for discharge of alien crewmen: From $2,771 minimum/$5,543 maximum to $2,841 minimum/$5,683 maximum.

(10) Section 257 of the Act, Penalties for bringing into the United States alien crewmen with intent to evade immigration laws: From $18,477 maximum to $18,943 maximum.

(11) Section 271(a) of the Act, Penalties for failure to prevent the unauthorized landing of aliens: From $5,543 to $5,683.

(12) Section 272(a) of the Act, Penalties for bringing to the United States aliens subject to denial of admission on a health-related ground: From $5,543 to $5,683.

(13) Section 273(b) of the Act, Penalties for bringing to the United States aliens without required documentation: From $5,543 to $5,683.

(14) Section 274D of the Act, Penalties for failure to depart: From $779 maximum to $799 maximum, for each day the alien is in violation.

(15) Section 275(b) of the Act, Penalties for improper entry: From $78 minimum/$390 maximum to $80 minimum/$400 maximum, for each entry or attempted entry.

Title 19—Customs Duties

PART 4—VESSELS IN FOREIGN AND DOMESTIC TRADES

10. The authority citation for part 4 continues to read in part as follows:

Authority: 5 U.S.C. 301; 19 U.S.C. 66, 1431, 1433, 1434, 1624, 2071 note; 46 U.S.C. 501, 60105.

* * * * *

Sections 4.80, 4.80a, and 4.80b also issued under 19 U.S.C. 1706a; 28 U.S.C. 2461 note; 46 U.S.C. 12112, 12117, 12118, 50501-55106, 55107, 55108, 55110, 55114, 55115, 55116, 55117, 55119, 56101, 55121, 56101, 57109; Pub. L. 108-7, Division B, Title II, § 211;

* * * * *

Section 4.92 also issued under 28 U.S.C. 2461 note; 46 U.S.C. 55111;

* * * * *

11. In § 4.80, revise paragraphs (b)(2) and (i) to read as follows:

§ 4.80 Vessels entitled to engage in coastwise trade.

* * * * *

(b) * * *

(2) The penalty imposed for the unlawful transportation of passengers between coastwise points is $300 for each passenger so transported and landed on or before November 2, 2015, and $798 for each passenger so transported and landed after November 2, 2015 (46 U.S.C. 55103, as adjusted by the Federal Civil Penalties Inflation Adjustment Act Improvements Act of 2015).

* * * * *

(i) Any vessel, entitled to be documented and not so documented, employed in a trade for which a Certificate of Documentation is issued under the vessel documentation laws (see § 4.0(c)), other than a trade covered by a registry, is liable to a civil penalty of $500 for each port at which it arrives without the proper Certificate of Documentation on or before November 2, 2015, and $1329 for each port at which it arrives without the proper Certificate of Documentation after November 2, 2015 (19 U.S.C. 1706a, as adjusted by the Federal Civil Penalties Inflation Adjustment Act Improvements Act of 2015). If such a vessel has on board any foreign merchandise (sea stores excepted), or any domestic taxable alcoholic beverages, on which the duty and taxes have not been paid or secured to be paid, the vessel and its cargo are subject to seizure and forfeiture.

12. In § 4.92, revise the second and third sentences to read as follows:

§ 4.92 Towing.

* * * The penalties for violation of this provision occurring on or before November 2, 2015, are a fine of from $350 to $1,100 against the owner or master of the towing vessel and a further penalty against the towing vessel of $60 per ton of the towed vessel. The penalties for violation of this provision occurring after November 2, 2015, are a fine of from $930 to $2,924 against the owner or master of the towing vessel and a further penalty against the towing vessel of $159 per ton of the towed vessel (46 U.S.C. 55111, as adjusted by the Federal Civil Penalties Inflation Adjustment Act Improvements Act of 2015).

Title 33—Navigation and Navigable Waters

PART 27—ADJUSTMENT OF CIVIL MONETARY PENALTIES FOR INFLATION

13. The authority citation for part 27 continues to read as follows:

Authority: Secs. 1-6, Pub. L. 101-410, 104 Stat. 890, as amended by Sec. 31001(s)(1), Pub. L. 104-134, 110 Stat. 1321 (28 U.S.C. 2461 note); Department of Homeland Security Delegation No. 0170.1, sec. 2 (106).

14. In § 27.3, revise the third sentence of the introductory text and table 1 to read as follows:

§ 27.3 Penalty adjustment table.

* * * The adjusted civil penalty amounts listed in Table 1 are applicable for penalty assessments issued after April 5, 2019, with respect to violations occurring after November 2, 2015. * * *

Table 1—Civil Monetary Penalty Inflation Adjustments
U.S. Code citation | Civil monetary penalty description | 2019 Adjusted maximum penalty amount ($)
14 U.S.C. 521(c) | Saving Life and Property | $10,651
14 U.S.C. 521(e) | Saving Life and Property; Intentional Interference with Broadcast | 1,093
14 U.S.C. 645(i) | Confidentiality of Medical Quality Assurance Records (first offense) | 5,350
14 U.S.C. 645(i) | Confidentiality of Medical Quality Assurance Records (subsequent offenses) | 35,668
16 U.S.C. 4711(g)(1) | Aquatic Nuisance Species in Waters of the United States | 39,936
19 U.S.C. 70 | Obstruction of Revenue Officers by Masters of Vessels | 7,975
19 U.S.C. 70 | Obstruction of Revenue Officers by Masters of Vessels—Minimum Penalty | 1,861
19 U.S.C. 1581(d) | Failure to Stop Vessel When Directed; Master, Owner, Operator or Person in Charge ¹ | 5,000
19 U.S.C. 1581(d) | Failure to Stop Vessel When Directed; Master, Owner, Operator or Person in Charge—Minimum Penalty ¹ | 1,000
33 U.S.C. 471 | Anchorage Ground/Harbor Regulations General | 11,563
33 U.S.C. 474 | Anchorage Ground/Harbor Regulations St. Mary's River | 798
33 U.S.C. 495(b) | Bridges/Failure to Comply with Regulations | 29,192
33 U.S.C. 499(c) | Bridges/Drawbridges | 29,192
33 U.S.C. 502(c) | Bridges/Failure to Alter Bridge Obstructing Navigation | 29,192
33 U.S.C. 533(b) | Bridges/Maintenance and Operation | 29,192
33 U.S.C. 1208(a) | Bridge to Bridge Communication; Master, Person in Charge or Pilot | 2,126
33 U.S.C. 1208(b) | Bridge to Bridge Communication; Vessel | 2,126
33 U.S.C. 1321(b)(6)(B)(i) | Oil/Hazardous Substances: Discharges (Class I per violation) | 18,943
33 U.S.C. 1321(b)(6)(B)(i) | Oil/Hazardous Substances: Discharges (Class I total under paragraph) | 47,357
33 U.S.C. 1321(b)(6)(B)(ii) | Oil/Hazardous Substances: Discharges (Class II per day of violation) | 18,943
33 U.S.C. 1321(b)(6)(B)(ii) | Oil/Hazardous Substances: Discharges (Class II total under paragraph) | 236,783
33 U.S.C. 1321(b)(7)(A) | Oil/Hazardous Substances: Discharges (per day of violation) Judicial Assessment | 47,357
33 U.S.C. 1321(b)(7)(A) | Oil/Hazardous Substances: Discharges (per barrel of oil or unit discharged) Judicial Assessment | 1,895
33 U.S.C. 1321(b)(7)(B) | Oil/Hazardous Substances: Failure to Carry Out Removal/Comply With Order (Judicial Assessment) | 47,357
33 U.S.C. 1321(b)(7)(C) | Oil/Hazardous Substances: Failure to Comply with Regulation Issued Under 1321(j) (Judicial Assessment) | 47,357
33 U.S.C. 1321(b)(7)(D) | Oil/Hazardous Substances: Discharges, Gross Negligence (per barrel of oil or unit discharged) Judicial Assessment | 5,683
33 U.S.C. 1321(b)(7)(D) | Oil/Hazardous Substances: Discharges, Gross Negligence—Minimum Penalty (Judicial Assessment) | 189,427
33 U.S.C. 1322(j) | Marine Sanitation Devices; Operating | 7,975
33 U.S.C. 1322(j) | Marine Sanitation Devices; Sale or Manufacture | 21,265
33 U.S.C. 1608(a) | International Navigation Rules; Operator | 14,910
33 U.S.C. 1608(b) | International Navigation Rules; Vessel | 14,910
33 U.S.C. 1908(b)(1) | Pollution from Ships; General | 74,552
33 U.S.C. 1908(b)(2) | Pollution from Ships; False Statement | 14,910
33 U.S.C. 2072(a) | Inland Navigation Rules; Operator | 14,910
33 U.S.C. 2072(b) | Inland Navigation Rules; Vessel | 14,910
33 U.S.C. 2609(a) | Shore Protection; General | 52,596
33 U.S.C. 2609(b) | Shore Protection; Operating Without Permit | 21,039
33 U.S.C. 2716a(a) | Oil Pollution Liability and Compensation | 47,357
33 U.S.C. 3852(a)(1)(A) | Clean Hulls; Civil Enforcement | 43,359
33 U.S.C. 3852(a)(1)(A) | Clean Hulls; related to false statements | 57,813
33 U.S.C. 3852(c) | Clean Hulls; Recreational Vessels | 5,781
42 U.S.C. 9609(a) | Hazardous Substances, Releases, Liability, Compensation (Class I) | 57,317
42 U.S.C. 9609(b) | Hazardous Substances, Releases, Liability, Compensation (Class II) | 57,317
42 U.S.C. 9609(b) | Hazardous Substances, Releases, Liability, Compensation (Class II subsequent offense) | 171,952
42 U.S.C. 9609(c) | Hazardous Substances, Releases, Liability, Compensation (Judicial Assessment) | 57,317
42 U.S.C. 9609(c) | Hazardous Substances, Releases, Liability, Compensation (Judicial Assessment subsequent offense) | 171,952
46 U.S.C. 80509(a) | Safe Containers for International Cargo | 6,265
46 U.S.C. 70305(c) | Suspension of Passenger Service | 62,656
46 U.S.C. 2110(e) | Vessel Inspection or Examination Fees | 9,472
46 U.S.C. 2115 | Alcohol and Dangerous Drug Testing | 7,710
46 U.S.C. 2302(a) | Negligent Operations: Recreational Vessels | 6,974
46 U.S.C. 2302(a) | Negligent Operations: Other Vessels | 34,871
46 U.S.C. 2302(c)(1) | Operating a Vessel While Under the Influence of Alcohol or a Dangerous Drug | 7,710
46 U.S.C. 2306(a)(4) | Vessel Reporting Requirements: Owner, Charterer, Managing Operator, or Agent | 12,007
46 U.S.C. 2306(b)(2) | Vessel Reporting Requirements: Master | 2,402
46 U.S.C. 3102(c)(1) | Immersion Suits | 12,007
46 U.S.C. 3302(i)(5) | Inspection Permit | 2,505
46 U.S.C. 3318(a) | Vessel Inspection; General | 12,007
46 U.S.C. 3318(g) | Vessel Inspection; Nautical School Vessel | 12,007
46 U.S.C. 3318(h) | Vessel Inspection; Failure to Give Notice IAW 3304(b) | 2,402
46 U.S.C. 3318(i) | Vessel Inspection; Failure to Give Notice IAW 3309(c) | 2,402
46 U.S.C. 3318(j)(1) | Vessel Inspection; Vessel ≥1,600 Gross Tons | 24,017
46 U.S.C. 3318(j)(1) | Vessel Inspection; Vessel <1,600 Gross Tons | 4,803
46 U.S.C. 3318(k) | Vessel Inspection; Failure to Comply with 3311(b) | 24,017
46 U.S.C. 3318(l) | Vessel Inspection; Violation of 3318(b)-3318(f) | 12,007
46 U.S.C. 3502(e) | List/count of Passengers | 250
46 U.S.C. 3504(c) | Notification to Passengers | 25,037
46 U.S.C. 3504(c) | Notification to Passengers; Sale of Tickets | 1,251
46 U.S.C. 3506 | Copies of Laws on Passenger Vessels; Master | 501
46 U.S.C. 3718(a)(1) | Liquid Bulk/Dangerous Cargo | 62,595
46 U.S.C. 4106 | Uninspected Vessels | 10,519
46 U.S.C. 4311(b)(1) | Recreational Vessels (maximum for related series of violations) | 331,174
46 U.S.C. 4311(b)(1) | Recreational Vessels; Violation of 4307(a) | 6,623
46 U.S.C. 4311(c) | Recreational Vessels | 2,505
46 U.S.C. 4507 | Uninspected Commercial Fishing Industry Vessels | 10,519
46 U.S.C. 4703 | Abandonment of Barges | 1,783
46 U.S.C. 5116(a) | Load Lines | 11,463
46 U.S.C. 5116(b) | Load Lines; Violation of 5112(a) | 22,927
46 U.S.C. 5116(c) | Load Lines; Violation of 5112(b) | 11,463
46 U.S.C. 6103(a) | Reporting Marine Casualties | 39,936
46 U.S.C. 6103(b) | Reporting Marine Casualties; Violation of 6104 | 10,519
46 U.S.C. 8101(e) | Manning of Inspected Vessels; Failure to Report Deficiency in Vessel Complement | 1,895
46 U.S.C. 8101(f) | Manning of Inspected Vessels | 18,943
46 U.S.C. 8101(g) | Manning of Inspected Vessels; Employing or Serving in Capacity not Licensed by USCG | 18,943
46 U.S.C. 8101(h) | Manning of Inspected Vessels; Freight Vessel <100 GT, Small Passenger Vessel, or Sailing School Vessel | 2,505
46 U.S.C. 8102(a) | Watchmen on Passenger Vessels | 2,505
46 U.S.C. 8103(f) | Citizenship Requirements | 1,251
46 U.S.C. 8104(i) | Watches on Vessels; Violation of 8104(a) or (b) | 18,943
46 U.S.C. 8104(j) | Watches on Vessels; Violation of 8104(c), (d), (e), or (h) | 18,943
46 U.S.C. 8302(e) | Staff Department on Vessels | 250
46 U.S.C. 8304(d) | Officer's Competency Certificates | 250
46 U.S.C. 8502(e) | Coastwise Pilotage; Owner, Charterer, Managing Operator, Agent, Master or Individual in Charge | 18,943
46 U.S.C. 8502(f) | Coastwise Pilotage; Individual | 18,943
46 U.S.C. 8503 | Federal Pilots | 60,039
46 U.S.C. 8701(d) | Merchant Mariners Documents | 1,251
46 U.S.C. 8702(e) | Crew Requirements | 18,943
46 U.S.C. 8906 | Small Vessel Manning | 39,936
46 U.S.C. 9308(a) | Pilotage: Great Lakes; Owner, Charterer, Managing Operator, Agent, Master or Individual in Charge | 18,943
46 U.S.C. 9308(b) | Pilotage: Great Lakes; Individual | 18,943
46 U.S.C. 9308(c) | Pilotage: Great Lakes; Violation of 9303 | 18,943
46 U.S.C. 10104(b) | Failure to Report Sexual Offense | 10,067
46 U.S.C. 10314(a)(2) | Pay Advances to Seamen | 1,251
46 U.S.C. 10314(b) | Pay Advances to Seamen; Remuneration for Employment | 1,251
46 U.S.C. 10315(c) | Allotment to Seamen | 1,251
46 U.S.C. 10321 | Seamen Protection; General | 8,678
46 U.S.C. 10505(a)(2) | Coastwise Voyages: Advances | 8,678
46 U.S.C. 10505(b) | Coastwise Voyages: Advances; Remuneration for Employment | 8,678
46 U.S.C. 10508(b) | Coastwise Voyages: Seamen Protection; General | 8,678
46 U.S.C. 10711 | Effects of Deceased Seamen | 501
46 U.S.C. 10902(a)(2) | Complaints of Unfitness | 1,251
46 U.S.C. 10903(d) | Proceedings on Examination of Vessel | 250
46 U.S.C. 10907(b) | Permission to Make Complaint | 1,251
46 U.S.C. 11101(f) | Accommodations for Seamen | 1,251
46 U.S.C. 11102(b) | Medicine Chests on Vessels | 1,251
46 U.S.C. 11104(b) | Destitute Seamen | 250
46 U.S.C. 11105(c) | Wages on Discharge | 1,251
46 U.S.C. 11303(a) | Log Books; Master Failing to Maintain | 501
46 U.S.C. 11303(b) | Log Books; Master Failing to Make Entry | 501
46 U.S.C. 11303(c) | Log Books; Late Entry | 375
46 U.S.C. 11506 | Carrying of Sheath Knives | 125
46 U.S.C. 12151(a)(1) | Vessel Documentation | 16,398
46 U.S.C. 12151(a)(2) | Documentation of Vessels- Related to activities involving mobile offshore drilling units | 27,331
46 U.S.C. 12151(c) | Vessel Documentation; Fishery Endorsement | 125,314
46 U.S.C. 12309(a) | Numbering of Undocumented Vessels—Willful violation | 12,519
46 U.S.C. 12309(b) | Numbering of Undocumented Vessels | 2,505
46 U.S.C. 12507(b) | Vessel Identification System | 21,039
46 U.S.C. 14701 | Measurement of Vessels | 45,855
46 U.S.C. 14702 | Measurement; False Statements | 45,855
46 U.S.C. 31309 | Commercial Instruments and Maritime Liens | 21,039
46 U.S.C. 31330(a)(2) | Commercial Instruments and Maritime Liens; Mortgagor | 21,039
46 U.S.C. 31330(b)(2) | Commercial Instruments and Maritime Liens; Violation of 31329 | 52,596
46 U.S.C. 70036(a) | Ports and Waterways Safety Regulations | 94,219
46 U.S.C. 70041(d)(1)(B) | Vessel Navigation: Regattas or Marine Parades; Unlicensed Person in Charge | 9,472
46 U.S.C. 70041(d)(1)(C) | Vessel Navigation: Regattas or Marine Parades; Owner Onboard Vessel | 9,472
46 U.S.C. 70041(d)(1)(D) | Vessel Navigation: Regattas or Marine Parades; Other Persons | 4,735
46 U.S.C. 70119(a) | Port Security | 34,871
46 U.S.C. 70119(b) | Port Security—Continuing Violations | 62,656
46 U.S.C. 70506 | Maritime Drug Law Enforcement; Penalties | 5,781
49 U.S.C. 5123(a)(1) | Hazardous Materials: Related to Vessels—Maximum Penalty | 81,993
49 U.S.C. 5123(a)(2) | Hazardous Materials: Related to Vessels—Penalty from Fatalities, Serious Injuries/Illness or Substantial Damage to Property | 191,316
49 U.S.C. 5123(a)(3) | Hazardous Materials: Related to Vessels—Training | 493
¹ Enacted under the Tariff Act of 1930, exempt from inflation adjustments.

Title 49—Transportation

PART 1503—INVESTIGATIVE AND ENFORCEMENT PROCEDURES

15. The authority citation for part 1503 continues to read as follows:

Authority: 6 U.S.C. 1142; 18 U.S.C. 6002; 28 U.S.C. 2461 (note); 49 U.S.C. 114, 20109, 31105, 40113-40114, 40119, 44901-44907, 46101-46107, 46109-46110, 46301, 46305, 46311, 46313-46314; Pub. L. 104-134, as amended by Pub. L. 114-74.

16. In § 1503.401, revise paragraphs (b)(1) and (2) and (c)(1) through (3) to read as follows:

§ 1503.401 Maximum penalty amounts.

* * * * *

(b) * * *

(1) For violations that occurred on or before November 2, 2015, $10,000 per violation, up to a total of $50,000 per civil penalty action, in the case of an individual or small business concern, as defined in section 3 of the Small Business Act (15 U.S.C. 632). For violations that occurred after November 2, 2015 $11,698 per violation, up to a total of $58,490 per civil penalty action, in the case of an individual or small business concern; and

(2) For violations that occurred on or before November 2, 2015, $10,000 per violation, up to a total of $400,000 per civil penalty action, in the case of any other person. For violations that occurred after November 2, 2015, $11,698 per violation, up to a total of $467,920 per civil penalty action, in the case of any other person.

(c) * * *

(1) For violations that occurred on or before November 2, 2015, $10,000 per violation, up to a total of $50,000 per civil penalty action, in the case of an individual or small business concern, as defined in section 3 of the Small Business Act (15 U.S.C. 632). For violations that occurred after November 2, 2015, $13,669 per violation, up to a total of $68,347 per civil penalty action, in the case of an individual (except an airman serving as an airman), or a small business concern.

(2) For violations that occurred on or before November 2, 2015, $10,000 per violation, up to a total of $400,000 per civil penalty action, in the case of any other person (except an airman serving as an airman) not operating an aircraft for the transportation of passengers or property for compensation. For violations that occurred after November 2, 2015, $13,669 per violation, up to a total of $546,774 per civil penalty action, in the case of any other person (except an airman serving as an airman) not operating an aircraft for the transportation of passengers or property for compensation.

(3) For violations that occurred on or before November 2, 2015, $25,000 per violation, up to a total of $400,000 per civil penalty action, in the case of a person operating an aircraft for the transportation of passengers or property for compensation (except an individual serving as an airman). For violations that occurred after November 2, 2015, $34,174 per violation, up to a total of $546,774 per civil penalty action, in the case of a person (except an individual serving as an airman) operating an aircraft for the transportation of passengers or property for compensation.

John M. Mitnick,
General Counsel.

[FR Doc. 2019-06745 Filed 4-4-19; 8:45 am]

BILLING CODE 9110-9-P, 9111-14-P, 9111-28-P, 9110-04-P, 9110-05-P